DEPARTMENT OF THE TREASURY

Office of Foreign Assets Control

31 CFR Part 598

Publication of Foreign Narcotics Kingpin Sanctions Regulations Web General Licenses 2, 3, 3A, and 3B

AGENCY: Office of Foreign Assets Control, Treasury.

ACTION: Publication of Web General Licenses.

SUMMARY: The Department of the Treasury's Office of Foreign Assets Control (OFAC) is publishing four general licenses (GLs) issued pursuant to the Foreign Narcotics Kingpin Sanctions Regulations: GLs 2, 3, 3A, and 3B, each of which was previously made available on OFAC's website.

DATES: GL 2 was issued on May 5, 2015. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On May 5, 2016, OFAC issued GLs 2 and 3 to authorize certain transactions otherwise prohibited by the Foreign Narcotics Kingpin Sanctions Regulations, 31 CFR part 589. Subsequently, OFAC issued two further iterations of GL 3: on June 3, 2016, OFAC issued GL 3A, which superseded GL 3; and on January 5, 2017, OFAC issued GL 3B, which superseded GL 3A. Each of these GLs is now expired.

Each GL was made available on OFAC's website (www.treas.gov/ofac) when it was issued. The text of these GLs is provided below.

OFFICE OF FOREIGN ASSETS CONTROL

Foreign Narcotics Kingpin Sanctions Regulations 31 CFR Part 598

GENERAL LICENSE NO. 2

Authorizing Certain Transactions and Activities To Wind Down Operations for the Hotel Operating at Millennium Plaza, Panama

(a) Except as provided in paragraph (b), all transactions and activities otherwise prohibited by the Foreign Narcotics Kingpin Designation Act, 21 U.S.C. 1901-1908, and the Foreign Narcotics Kingpin Sanctions Regulations, 31 CFR part 598, that are necessary to maintain lodging services or are for the winding down of operations, contracts, or other agreements involving hotel goods or services with the hotel operating at Millennium Plaza, Avenida A. Waked, Corredor Zona Libre, Colon, Panama, that were ongoing or in effect prior to May 5, 2016, are authorized through 12:01 a.m. eastern daylight time, May 26, 2016.

(b) This general license does not authorize:

(1) The unblocking of any accounts blocked pursuant to the Foreign Narcotics Kingpin Designation Act, 21 U.S.C. 1901-1908, and the Foreign Narcotics Kingpin Sanctions Regulations, 31 CFR part 598;

(2) Any transactions or dealings otherwise prohibited by any Executive order or any other part of 31 CFR chapter V, or any transactions or dealings with any individual or entity other than the hotel operating at Millennium Plaza, Avenida A. Waked, Corredor Zona Libre, Colon, Panama; Plaza Milenio, S.A.; or Administracion Millenium Plaza, S.A. that is listed on the Office of Foreign Assets Control's List of Specially Designated Nationals or Blocked Persons or that otherwise constitutes a person whose property and interests in property are blocked;

(3) Any payment incident to and necessary for the transactions authorized in paragraph (a) to or for the benefit of the entity Plaza Milenio, S.A. or Administracion Millenium Plaza, S.A. unless such payment is made into a blocked interest-bearing account in accordance with 31 CFR 598.206(a).

John E. Smith,

Acting Director, Office of Foreign Assets Control.

Dated: May 5, 2016.

OFFICE OF FOREIGN ASSETS CONTROL

Foreign Narcotics Kingpin Sanctions Regulations 31 CFR Part 598

GENERAL LICENSE NO. 3

Authorizing Certain Transactions and Activities Necessary To Maintain Existing Operations of La Estrella and El Siglo Newspapers

(a) Except as provided in paragraph (b), all transactions and activities otherwise prohibited by the Foreign Narcotics Kingpin Designation Act, 21 U.S.C. 1901-1908, and the Foreign Narcotics Kingpin Sanctions Regulations, 31 CFR part 598, that are necessary to maintain all existing operations of the Panamanian newspapers, La Estrella and El Siglo, are authorized through 12:01 a.m. eastern daylight time, July 6, 2016.

(b) This general license does not authorize:

(1) The unblocking of any accounts blocked pursuant to the Foreign Narcotics Kingpin Designation Act, 21 U.S.C. 1901-1908, and the Foreign Narcotics Kingpin Sanctions Regulations, 31 CFR part 598; or

(2) Any transactions or dealings otherwise prohibited by any Executive order or any other part of 31 CFR chapter V, or any transactions or dealings with any individual or entity other than the La Estrella and El Siglo newspapers that is listed on the Office of Foreign Assets Control's List of Specially Designated Nationals or Blocked Persons or that otherwise constitutes a person whose property and interests in property are blocked.

John E. Smith,

Acting Director, Office of Foreign Assets Control.

Dated: May 5, 2016.

OFFICE OF FOREIGN ASSETS CONTROL

Foreign Narcotics Kingpin Sanctions Regulations 31 CFR Part 598

GENERAL LICENSE NO. 3A

Authorizing Certain Transactions and Activities Necessary To Maintain Existing Operations of La Estrella and El Siglo Newspapers

(a) General License No. 3, dated May 5, 2016, is replaced and superseded in its entirety by this General License No. 3A.

(b) Except as provided in paragraph (c), all transactions and activities otherwise prohibited by the Foreign Narcotics Kingpin Designation Act, 21 U.S.C. 1901-1908, and the Foreign Narcotics Kingpin Sanctions Regulations, 31 CFR part 598, that are necessary to maintain all existing operations of the Panamanian newspapers, La Estrella and El Siglo, are authorized through 12:01 a.m. eastern daylight time, January 6, 2017.

(c) This general license does not authorize:

(1) The unblocking of any property blocked pursuant to the Foreign Narcotics Kingpin Designation Act, 21 U.S.C. 1901-1908, and the Foreign Narcotics Kingpin Sanctions Regulations, 31 CFR part 598; or

(2) Any transactions or dealings otherwise prohibited by any Executive order or any other part of 31 CFR Chapter V, or any transactions or dealings with any individual or entity other than the La Estrella and El Siglo newspapers that is listed on the Office of Foreign Assets Control's List of Specially Designated Nationals or Blocked Persons or that otherwise constitutes a person whose property and interests in property are blocked.

John H. Battle,

Acting Director, Office of Foreign Assets Control.

Dated: June 3, 2016.

OFFICE OF FOREIGN ASSETS CONTROL

Foreign Narcotics Kingpin Sanctions Regulations 31 CFR Part 598

GENERAL LICENSE NO. 3B

Authorizing Certain Transactions and Activities To Wind Operations Involving La Estrella and El Siglo Newspapers

(a) General License No. 3A, dated June 3, 2016, is replaced and superseded in its entirety by this General License No. 3B.

(b) Except as provided in paragraph (c), all transactions or activities otherwise prohibited by the Foreign Narcotics Kingpin Designation Act, 21 U.S.C. 1901-1908, and the Foreign Narcotics Kingpin Sanctions Regulations, 31 CFR part 598, that are for the wind down of operations, contracts, or other agreements involving goods or services with Grupo Editorial La Estrella y El Siglo or the Panamanian newspapers, La Estrella and El Siglo (hereinafter Grupo GESE), are authorized through 12:01 a.m. eastern daylight time, July 13, 2017.

(c) This general license does not authorize:

(1) The unblocking of any property blocked pursuant to the Foreign Narcotics Kingpin Designation Act, 21 U.S.C. 1901-1908, and the Foreign Narcotics Kingpin Sanctions Regulations, 31 CFR part 598; or

(2) Any transactions or dealings otherwise prohibited by any Executive order or any other part of 31 CFR. chapter V, or any transactions or dealings with any individual or entity other than Grupo GESE that is listed on the Office of Foreign Assets Control's List of Specially Designated Nationals or Blocked Persons or that otherwise constitutes a person whose property and interests in property are blocked.

John E. Smith,

Acting Director, Office of Foreign Assets Control.

Dated: January 5, 2017.

Andrea M. Gacki,
Director, Office of Foreign Assets Control.

[FR Doc. 2022-26201 Filed 11-30-22; 8:45 am]

BILLING CODE 4810-AL-P